FEDERAL COMMUNICATIONS COMMISSION

Public Information Collection(s) Requirement Submitted to OMB for Emergency Review and Approval

August 27, 2004.

SUMMARY: The Federal Communications Commission, as part of its continuing effort to reduce paperwork burden invites the general public and other Federal agencies to take this opportunity to comment on the following information collection(s), as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before October 8, 2004. If you anticipate that you will be submitting comments, but find it difficult to do so within the period of time allowed by this notice, you should advise the contacts listed below as soon as possible.

ADDRESSES: Direct all PRA comments to Kristy L. LaLonde, Office of Management and Budget, Room 10234 NEOB, Washington, DC 20503, (202) 395-3087, or via fax at 202-395-5167 or via Internet at Kristy_L._LaLonde@omb.eop.gov, and Judith B. Herman, Federal Communications Commission, Room 1-C804, 445 12th Street, SW., Washington, DC 20554 or via Internet to Judith-B.Herman@fcc.gov.

FOR FURTHER INFORMATION CONTACT: For additional information or copies of the information collections contact Judith B. Herman at 202-418-0214 or via Internet at Judith-B.Herman@fcc.gov.

SUPPLEMENTARY INFORMATION: The Commission has requested emergency OMB processing review of this new information collection with an OMB approval by September 30, 2004.

OMB Control Number: 3060-XXXX.

Title: Rural Wireless Community VISION Program Essay Guidelines.

Form No.: N/A.

Type of Review: New collection.

Respondents: State, local and tribal government.

Number of Respondents: 250.

Estimated Time Per Response: 8 hours.

Frequency of Response: On occasion reporting requirement.

Total Annual Burden: 2,000 hours.

Total Annual Cost: N/A.

Needs and Uses: The Commission is seeking emergency processing of this new information collection so that it may be implemented no later than October 15, 2004, as part of the President's program to bring “affordable broadband access to all corners of America by 2007.” Additionally, we are requesting emergency processing so that we meet the terms in the Memorandum of Understanding between the Federal Communications Commission (FCC) and the United States Department of Agriculture (USDA).

The information collection consists of a one page essay with five questions inviting any rural community to submit a Community VISION Essay, which describes their community's “vision” of how to utilize broadband access to bring new, economic, educational, healthcare, and other opportunities and benefits to their residents. The selected communities will work with a team of experts from FCC and USDA. The team of experts will provide direct, hands-on assistance to the communities to achieve successful wireless broadband deployments and thus make their Community's VISION a reality. The team of experts will select the participants in the program from among the communities that apply. These communities will serve as models to help speed wireless broadband access to unserved or underserved rural communities in the United States.

Federal Communications Commission.
Marlene H. Dortch,
Secretary.

[FR Doc. 04-20355 Filed 9-7-04; 8:45 am]

BILLING CODE 6712-01-P